COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List products and services to be furnished by nonprofit agencies employing persons who are blind or have other severe disabilities, and deletes from the Procurement List products and services previously furnished by such agencies.

EFFECTIVE DATE: July 6, 2008.

ADDRESS: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On April 4 and April 11, 2008, the Committee for Purchase From People Who Are Blind or Severely Disabled published notice (73 FR 18495; 19808) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services added to the Procurement List.

End of Certification

Accordingly, the following products and services are added to the Procurement List:

Products

Pen, Multi-function:

NSN: 7510-00-NIB-0797—B3 Aviator Pen, Refill;

NSN: 7520-00-NIB-1754—B3 Aviator Pen.

NPA: Alphapointe Association for the Blind, Kansas City, MO.

Coverage: A-List for the total Government requirements as specified by the General Services Administration.

Contracting Activity: General Services Administration, Office Supplies & Paper Products Acquisition Ctr., New York, NY.

Spices, UGR-A:

NSN: 8950-01-E10-1788—Spice Blend, Barbecue Style;

NSN: 8950-01-E10-1789—Spice Blend, Cinnamon Maple Sprinkles;

NSN: 8950-01-E10-1790—Spice Blend, Italian Style;

NSN: 8950-01-E10-1791—Spice, Onion, Minced, Dehydrated;

NSN: 8950-01-E10-1792—Spice, Paprika, Ground;

NSN: 8950-01-E10-1793—Spice Blend, Poultry Seasoning;

NSN: 8950-01-E10-1794—Spice Blend, Steak Seasoning;

NSN: 8950-01-E10-1795—Spice Blend, Vegetable Seasoning, w/o Salt;

NSN: 8950-01-E10-1796—Spice, Pepper, Black, Ground;

NSN: 8950-01-E10-1797—Salt, Table, Iodized.

NPA: Continuing Developmental Services, Inc., Fairport, NY.

Coverage: C-List for the requirement of the Defense Supply Center Philadelphia, Philadelphia, PA.

Contracting Activity: Defense Supply Center Philadelphia, Philadelphia, PA.

Services

Service Type/Location: Custodial Services. General Services Administration, Public Buildings Service, 1500 East Bannister Road, Buildings 2306 and 2312, Kansas City, MO.

NPA: Independence and Blue Springs Industries, Inc., Independence, MO.

Contracting Activity: General Services Administration, Public Buildings Service, Region 6, Kansas City, MO.

Service Type/Location: Custodial Services. Peachtree Summit Federal Building, 401 W. Peachtree Street, Atlanta, GA.

NPA: WORKTEC, Jonesboro, GA.

Contracting Activity: General Services Administration, Public Buildings Service, Region 4, Atlanta, GA.

Service Type/Location: Food Service Attendant. Air National Guard—Jacksonville, 14300 Fang Drive, Jacksonville, FL.

NPA: Goodwill Industries of North Florida, Jacksonville, FL.

Contracting Activity: Air National Guard-Jacksonville, 125th Fighter Wing, Jacksonville, FL.

Deletions

On February 8 and April 11, 2008, the Committee for Purchase From People Who Are Blind or Severely Disabled published notice (73 FR 7521; 19808) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Clocks, Atomic Standard, Thermometer:

NSN: 6645-01-491-9837;

NSN: 6645-01-491-9840;

NSN: 6645-01-491-9841;

NSN: 6645-01-491-9844;

NSN: 6685-01-492-0910.

NPA: The Chicago Lighthouse for People who are Blind or Visually Impaired, Chicago, IL.

Contracting Activity: General Services Administration, Office Supplies & Paper Products Acquisition Ctr., New York, NY.

Cover, Toxicological Agents Protective:

NSN: 8415-00-261-6443.

NPA: Tommy Nobis Enterprises, Inc., Marietta, GA.

Contracting Activity: Defense Supply Center Philadelphia, Philadelphia, PA.

Services

Service Type/Location: Janitorial/Custodial. Federal Office Building, Ontario Street and Division, Sandpoint, ID.

NPA: Panhandle Special Needs, Inc., Sand Point, ID.

Contracting Activity: General Services Administration, Public Buildings Service, Region 10.

Service Type/Location: Janitorial/Custodial. Schultz Maintenance Complex, Wilson Creek Road, Ellensburg, WA.

NPA: Elmview, Ellensburg, WA.

Contracting Activity: Department of Energy, Washington, DC.

Kimberly M. Zeich,
Director, Program Operations.

[FR Doc. E8-12741 Filed 6-5-08; 8:45 am]

BILLING CODE 6353-01-P